DEPARTMENT OF COMMERCE

International Trade Administration

[A-570-814]

Certain Carbon Butt-Weld Pipe Fittings From the People's Republic of China: Final Results of Antidumping Duty Administrative Review and Final Determination of No Shipments; 2018-2019

AGENCY: Enforcement and Compliance, International Trade Administration, Department of Commerce.

SUMMARY: The Department of Commerce (Commerce) continues to find that Solidbend Fittings & Flanges Sdn. Bhd. (Solidbend) had no shipments of subject merchandise during the period of review (POR) July 1, 2018 through June 30, 2019.

DATES: Applicable November 24, 2020.

FOR FURTHER INFORMATION CONTACT: Genevieve Coen, AD/CVD Operations Office V, Enforcement and Compliance, International Trade Administration, U.S. Department of Commerce, 1401 Constitution Avenue NW, Washington, DC 20230; telephone: (202) 482-3251.

SUPPLEMENTARY INFORMATION:

Background

On April 2, 2020, Commerce published the Preliminary Results of the administrative review of the antidumping duty order on carbon steel butt-weld pipe fittings (butt-weld pipe fittings) from the People's Republic of China (China).¹ We invited parties to submit comments on the Preliminary Results. No party submitted comments. Accordingly, the final results remain unchanged from the Preliminary Results.

¹ See Carbon Steel Butt-Weld Pipe Fittings from the People's Republic of China: Preliminary Determination of No Shipments; 2018-2019, 85 FR 18556 (April 2, 2020) (Preliminary Results).

On April 24, 2020, Commerce tolled all deadlines in administrative reviews by 50 days, thereby extending the deadline for these final results until September 21, 2020.² On July 21, 2020, Commerce tolled all deadlines in administrative reviews by an additional 60 days.³ The deadline for the final results of this review is now November 18, 2020.⁴

² See Memorandum, “Tolling of Deadlines for Antidumping and Countervailing Duty Administrative Reviews in Response to Operational Adjustments Due to COVID-19,” dated April 24, 2020.

³ See Memorandum, “Tolling of Deadlines for Antidumping and Countervailing Duty Administrative Reviews,” dated July 21, 2020.

⁴ Id.

Scope of the Order

The merchandise covered by the order consists of certain carbon steel butt-weld pipe fittings, having an inside diameter of less than 14 inches, imported in either finished or unfinished form. These formed or forged pipe fittings are used to join sections in piping systems where conditions require permanent, welded connections, as distinguished from fittings based on other fastening methods (e.g., threaded, grooved, or bolted fittings). Carbon steel butt-weld pipe fittings are currently classified under subheading 7307.93.30 of the HTSUS. The HTSUS subheading is provided for convenience and customs purposes. The written product description remains dispositive.

Final Determination of No Shipments

As noted in the Preliminary Results, we received a statement from Solidbend reporting that it had no shipments of subject merchandise to the United States during the POR and this statement was consistent with the information we received from U.S. Customs and Border Protection.⁵ No party commented on our preliminary no shipment finding with respect to Solidbend, and no party submitted record evidence that calls this finding into question. Therefore, for these final results, we continue to find that Solidbend did not have any shipments of subject merchandise to the United States during the POR.

⁵ See Preliminary Results, 85 FR at 18556.

Disclosure

Normally, Commerce discloses to interested parties the calculations performed in connection with the final results of review within five days of its public announcement, or if there is no public announcement, within five days of the date of publication of this notice, in accordance with 19 CFR 351.224(b). However, because the company under review had no reviewable shipments, there are no calculations to disclose.

Assessment Rates

We have not calculated any assessment rates in this administrative review. Based on the record evidence we have determined that Solidbend had no shipments of subject merchandise, and, therefore, pursuant to Commerce's assessment practice, any suspended entries during the POR from Solidbend will be liquidated at the China-wide entity rate (i.e., 182.90 percent).⁶ Commerce intends to issue assessment instructions 15 days after the publication date of the final results of this review.

⁶ For a full discussion of this practice, see Non-Market Economy Antidumping Proceedings: Assessment of Antidumping Duties, 76 FR 65694 (October 24, 2011).

Cash Deposit Requirements

The following cash deposit requirements will be effective for all shipments of the subject merchandise entered, or withdrawn from warehouse, for consumption on or after the publication date of the final results of this administrative review, as provided by section 751(a)(2)(C) of the Act: (1) For previously investigated or reviewed Chinese and non-Chinese exporters not listed above that have separate rates, the cash deposit rate will continue to be the exporter-specific rate published for the most recently-completed segment of this proceeding; (2) for all Chinese manufacturers or exporters of subject merchandise that have not been found to be entitled to a separate rate, the cash deposit rate will continue to be 182.90 percent, the China-wide rate determined in the less-than-fair-value investigation; ⁷ (3) for all non-Chinese exporters of subject merchandise that have not received their own rate, the cash deposit rate will be the rate applicable to the Chinese exporter that supplied that non-Chinese exporter. These cash deposit requirements, when imposed, shall remain in effect until further notice.

⁷ See Antidumping Duty Order and Amendment to the Final Determination of Sales at Less Than Fair Value; Certain Carbon Steel Butt-Weld Pipe Fittings from the People's Republic of China, 57 FR 29702 (July 6, 1992).

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice serves as a reminder to parties subject to administrative protective order (APO) of their responsibility concerning the return or destruction of proprietary information disclosed under the APO in accordance with 19 CFR 351.305(a)(3), which continues to govern business proprietary information in this segment of the proceeding. Timely written notification of the return or destruction of APO materials or conversion to judicial protective order is hereby requested. Failure to comply with the regulations and the term of an APO is a sanctionable violation.

Notification to Interested Parties

We are issuing and publishing these final results in accordance with sections 751(a)(1) and 777(i) of the Act, and 19 CFR 351.213(h).

Dated: November 18, 2020.
Jeffrey I. Kessler,
Assistant Secretary for Enforcement and Compliance.

[FR Doc. 2020-25950 Filed 11-23-20; 8:45 am]

BILLING CODE 3510-DS-P